DEPARTMENT OF ENERGY

Federal Energy Regulatory Commission

[Project No. 3516-008]

City of Hart, MI; Notice of Availability

June 27, 2003.

In accordance with the National Environmental Policy Act of 1969 and the Federal Energy Regulatory Commission's (Commission) regulations, 18 CFR part 380 (Order No. 486, 52 FR 47879), the Office of Energy Projects has reviewed the application for license for the Hart Hydroelectric Project, located on the South Branch of the Pentwater River, in Oceana County, Michigan, and has prepared a Final Environmental Assessment (FEA) for the project. There are no federal lands occupied by the project works or located within the project boundaries.

The FEA contains the staff's analysis of the potential environmental effects of the project and concludes that licensing the project, with appropriate environmental measures, would not constitute a major federal action that would significantly affect the quality of the human environment.

A copy of the FEA is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659.

For further information, contact Steve Kartalia at 202-502-6131 or by E-mail at stephen.kartalia@ferc.gov.

Magalie R. Salas,
Secretary.

[FR Doc. 03-16856 Filed 7-2-03; 8:45 am]

BILLING CODE 6717-01-P